DEPARTMENT OF DEFENSE

Defense Acquisition Regulations System

48 CFR Part 219

Defense Federal Acquisition Regulation Supplement; Technical Amendments

AGENCY: Defense Acquisition Regulations System, Department of Defense (DoD).

ACTION: Final rule.

SUMMARY: DoD is making technical amendments to the Defense Federal Acquisition Regulation Supplement (DFARS) to provide needed editorial changes.

DATES: Effective November 18, 2014.

FOR FURTHER INFORMATION CONTACT: Mr. Manuel Quinones, Defense Acquisition Regulations System, OUSD(AT&L)DPAP(DARS), Room 3B941, 3060 Defense Pentagon, Washington, DC 20301-3060. Telephone 571-372-6088; facsimile 571-372-6094.

SUPPLEMENTARY INFORMATION: This final rule amends the DFARS as follows:

1. Corrects paragraph designation at 219.201.

List of Subjects in 48 CFR Part 219

Government procurement.

Manuel Quinones,
Editor, Defense Acquisition Regulations System.

Therefore, 48 CFR part 219 is amended as follows:

PART 219—SMALL BUSINESS PROGRAMS

1. The authority citation for 48 CFR part 219 continues to read as follows:

Authority: 41 U.S.C. 1303 and 48 CFR chapter 1.

219.201 [Amended]

2. Amend section 219.201 by—

a. In paragraph (c)(10)(A), removing “PGI 219.201(d)(10)” and adding “PGI 219.201(c)(10)” in its place; and

b. In paragraph (d), removing “PGI 219.201(e)” and adding “PGI 219.201(d)” in its place.

[FR Doc. 2014-27254 Filed 11-17-14; 8:45 am]

BILLING CODE 5001-06-P